DEPARTMENT OF ENERGY

Federal Energy Regulatory Commission

[Docket No. RP00-267-000]

ANR Pipeline Company; Notice of Technical Conference

June 20, 2000.

In the Commission's order issued on May 31, 2000,¹ the Commission directed that a technical conference be held to address issues raised by the filing.

¹ 91 FERC ¶ 61,195 (2000).

Take notice that the technical conference will be held on Thursday July 6, 2000, at 10 a.m. in a room to be designated at the offices of the Federal Energy Regulatory Commission, 888 First Street, NE, Washington, DC 20426.

All interested parties and Staff are permitted to attend.

David P. Boergers,
Secretary.

[FR Doc. 00-16012 Filed 6-23-00; 8:45 am]

BILLING CODE 6717-01-M